DEPARTMENT OF TRANSPORTATION

[Docket No. OST-2007-27407]

National Surface Transportation Infrastructure Financing Commission

AGENCY: Department of Transportation (DOT).

ACTION: Notice of meeting location and time.

SUMMARY: This notice lists the location and time of the fourteenth and fifteenth meetings of the National Surface Transportation Infrastructure Financing Commission.

FOR FURTHER INFORMATION CONTACT: John V. Wells, Chief Economist, U.S. Department of Transportation, (202) 366-9224, jack.wells@dot.gov.

SUPPLEMENTARY INFORMATION: By Federal Register Notice dated March 12, 2007, and in accordance with the requirements of the Federal Advisory Committee Act (“FACA”) (5 U.S.C. App. 2) and the Safe, Accountable, Flexible, Efficient Transportation Equity Act: A Legacy for Users (“SAFETEA-LU”) (Pub. L. 109-59, 119 Stat. 1144), the U.S. Department of Transportation (the “Department”) issued a notice of intent to form the National Surface Transportation Infrastructure Financing Commission (the “Financing Commission”). Section 11142(a) of SAFETEA-LU established the National Surface Transportation Infrastructure Financing Commission and charged it with analyzing future highway and transit needs and the finances of the Highway Trust Fund and with making recommendations regarding alternative approaches to financing surface transportation infrastructure.

Notice of Meeting Location and Time

The Commissioners have agreed to hold their fourteenth meeting in two sessions, from 6:30 p.m. to 9 p.m. on Tuesday, September 16, 2008, and from 8:30 a.m. to 4 p.m. on Wednesday, September 17, 2008. The Commissioners have also agreed to hold their fifteenth meeting in two sessions, from 8:30 a.m. to 4 p.m. on Tuesday, October 21, 2008, and from 8:30 a.m. to 4 p.m. on Wednesday, October 22, 2008. The session of the fourteenth meeting on September 17, 2008, is scheduled to take place at the office of the American Public Transportation Association (APTA), at 1666 K Street, NW., Eleventh Floor, Washington, DC 20006. The other three sessions, on September 16, 2008, October 21, 2008, and October 22, 2008, are scheduled to take place at the office of the Information Technology and Innovation Foundation (ITIF), 1250 I (“Eye”) Street, NW., Suite 200, Washington, DC 20005. Each session will be open to the public.

If you need accommodations because of a disability or require additional information to attend any of these meetings, please contact John V. Wells, Chief Economist, U.S. Department of Transportation, (202) 366-9224, jack.wells@dot.gov.

Issued on this 28th day of August, 2008.
John V. Wells,
Chief Economist, U.S. Department of Transportation,Designated Federal Official.

[FR Doc. E8-20493 Filed 9-3-08; 8:45 am]

BILLING CODE 4910-9X-P